DEPARTMENT OF COMMERCE

International Trade Administration

[A-570-831]

Fresh Garlic From the People's Republic of China: Notice of Extension of Time Limit for the Final Results of Antidumping Duty New Shipper Review and the Final Results of Antidumping Duty Administrative Review

AGENCY: Import Administration, International Trade Administration, Department of Commerce.

ACTION: Notice of extension of time limit for the final results of antidumping duty new shipper review and the final results of antidumping duty administrative review.

SUMMARY: The Department of Commerce is extending the time limit for the final results of the new shipper and administrative reviews of the antidumping duty order on fresh garlic from the People's Republic of China. The new shipper review covers one exporter, Clipper Manufacturing Co. Ltd. The period of review is June 1, 2000, through November 30, 2000. The administrative review covers four manufacturers/exporters and the period November 1, 1999, through October 31, 2000. At the request of the petitioner, the two reviews have been aligned and are being conducted simultaneously.

EFFECTIVE DATE: February 21, 2002.

FOR FURTHER INFORMATION CONTACT: Hermes Pinilla or Edythe Artman, AD/CVD Enforcement 3, Import Administration, International Trade Administration, U.S. Department of Commerce, 14th Street and Constitution Avenue, N.W., Washington, D.C. 20230; telephone: (202) 482-3477 or (202) 482-3931, respectively.

The Applicable Statute

Unless otherwise indicated, all citations to the statute are references to the provisions effective January 1, 1995, the effective date of the amendments made to the Tariff Act of 1930 (the Act) by the Uruguay Round Agreements Act and all citations to the Department of Commerce's regulations are to 19 CFR Part 351 (2001).

Background

On February 9, 2001, the petitioner submitted a request for alignment of the new shipper and administrative reviews. Clipper Manufacturing Co. Ltd. responded to the Department that it did not object to the petitioner's request. See Memorandum to the File regarding alignment of new shipper and administrative reviews (Feb. 19, 2001). Therefore, we are conducting these two reviews simultaneously.

On August 24, 2001, the Department published the preliminary results of the new shipper and administrative reviews of the antidumping duty order on fresh garlic from the People's Republic of China. See Fresh Garlic from the People's Republic of China; Preliminary Results of Antidumping New Shipper Review, Preliminary Results of Antidumping Duty Administrative Review, and Partial Rescission of Administrative Review, 66 FR 44596 (August 24, 2001). We invited parties to comment on our preliminary results. With respect to the new shipper review, we received comments from the petitioner and the new shipper, Clipper Manufacturing Co. Ltd. We received comments from the petitioner and one of the respondents, Fook Huat Tong Kee Pte., Ltd., and Taian Fook Huat Tong Kee Foods Co., Ltd. (collectively FHTK), that pertained to the administrative review. The final results for these reviews are currently due no later than February 20, 2001. See Notice of Correction to the Extension of Time Limit for the Final Results of Antidumping New Shipper Review and the Final Results of Antidumping Administrative Review of the Antidumping Duty Order on Fresh Garlic from the People's Republic of China, 67 FR 4392 (January 30, 2002).

Extension of Time Limits for Final Results for New Shipper and Administrative Reviews

The comments we received concerning our preliminary results present a number of complex factual and legal questions pertaining to the bona fides of certain sales potentially subject to the antidumping duty order in this case. Therefore, it is not practicable to complete the reviews within the time limits mandated by section 751(a)(3)(A) of the Act. Consequently, we are extending the time limit for the final results of the reviews to March 6, 2002.

February 13, 2002
Richard W. Moreland,
Deputy Assistant Secretary for AD/CVD Enforcement I.

[FR Doc. 02-4185 Filed 2-20-02; 8:45 am]

BILLING CODE 3510-DS-S